DEPARTMENT OF LABOR

Occupational Safety and Health Administration

[Docket No. OSHA-2023-0003]

National Advisory Committee on Occupational Safety and Health (NACOSH): Notice of Meeting

AGENCY: Occupational Safety and Health Administration (OSHA), Labor.

ACTION: Notice of NACOSH meeting.

SUMMARY: The National Advisory Committee on Occupational Safety and Health (NACOSH) will meet December 12, 2023, in a hybrid format. Committee members will meet in person, while the public is invited to participate either in person or virtually via WebEx.

DATES: The NACOSH will meet from 10:00 a.m. to 4:00 p.m., ET, December 12, 2023.

ADDRESSES:

Submission of comments and requests to speak: Comments and requests to speak at the NACOSH meeting, including attachments, must be submitted electronically at www.regulations.gov, the Federal eRulemaking Portal by November 27, 2023. Comments must identify the docket number for this Federal Register notice (Docket No. OSHA-2023-0003). Follow the online instructions for submitting comments.

Registration: All persons wishing to attend the meeting, either in person or virtually, must register via the registration link on the NACOSH web page at https://www.osha.gov/advisorycommittee/nacosh. Upon registration, in-person attendees will receive directions for participation and virtual attendees will receive a WebEx link for remote access to the meeting. At this time, OSHA will be limiting in-person attendance to 25 members of the public.

Requests for special accommodations: Submit requests for special accommodations, including translation services, for this NACOSH meeting by November 27, 2023, to Ms. Christie Garner, Directorate of Standards and Guidance, OSHA, U.S. Department of Labor; telephone: (202) 693-2246; email: garner.christie@dol.gov.

Instructions: All submissions must include the agency name and the OSHA docket number for this Federal Register notice (Docket No. OSHA-2023-0003). OSHA will place comments and requests to speak, including personal information, in the public docket, which may be available online. Therefore, OSHA cautions interested parties about submitting personal information such as Social Security numbers and birthdates.

Docket: To read or download documents in the public docket for this NACOSH meeting, go to www.regulations.gov. All documents in the public docket are listed in the index; however, some documents (e.g., copyrighted material) are not publicly available to read or download through www.regulations.gov. All submissions, including copyrighted material, are available for inspection through the OSHA Docket Office. Contact the OSHA Docket Office at (202) 693-2350 (TTY (877) 889-5627) for assistance in locating docket submissions.

FOR FURTHER INFORMATION CONTACT:

For press inquiries: Mr. Frank Meilinger, Director, OSHA Office of Communications, U.S. Department of Labor; telephone: (202) 693-1999; email: meilinger.francis2@dol.gov.

For general information about NACOSH: Ms. Lisa Long, Deputy Director, Directorate of Standards and Guidance, OSHA, U.S. Department of Labor; telephone: (202) 693-2409; email: long.lisa@dol.gov.

Telecommunication requirements: For additional information about the telecommunication requirements for the meeting, please contact Ms. Christie Garner, Directorate of Standards and Guidance, OSHA, U.S. Department of Labor; telephone: (202) 693-2246; email: garner.christie@dol.gov.

For copies of this Federal Register Notice: Electronic copies of this Federal Register notice are available at www.regulations.gov. This notice, as well as news releases and other relevant information, are also available at OSHA's web page at https://www.osha.gov/advisorycommittee/nacosh.

SUPPLEMENTARY INFORMATION:

I. Background

NACOSH was established by section 7(a) of the Occupational Safety and Health Act of 1970 (OSH Act) (29 U.S.C. 651, 656) to advise, consult with, and make recommendations to the Secretary of Labor and the Secretary of Health and Human Services on matters relating to the administration of the OSH Act. NACOSH is a continuing advisory committee of indefinite duration.

NACOSH operates in accordance with the Federal Advisory Committee Act (FACA) (5 U.S.C. App.2), its implementing regulations (41 CFR part 102-3), and OSHA's regulations on NACOSH (29 CFR 1912.5 and 29 CFR part 1912a).

II. Meeting Information

Public attendance will be in a hybrid format, either in person or virtually via WebEx. Meeting information will be posted in the docket (Docket No. OSHA-2023-0003) and on the NACOSH web page, https://www.osha.gov/advisorycommittee/nacosh, prior to the meeting.

NACOSH will meet from 10:00 a.m. to 4:00 p.m., ET on December 12, 2023.

Meeting agenda: The tentative agenda for this meeting includes:

• Introduction of new members;

• OSHA Updates;

• NIOSH Update;

• NIOSH Mental Health for Healthcare Workers Campaign;

• Safety as a Core Value; and

• Whistleblower Discussion.

Authority and Signature

James S. Frederick, Deputy Assistant Secretary of Labor for Occupational Safety and Health, authorized the preparation of this notice under the authority granted by 29 U.S.C. 655(b)(1) and 656(b), 5 U.S.C. app. 2, 29 CFR parts 1912 and 1912a, and Secretary of Labor's Order No. 8-2020 (85 FR 58393).

Signed at Washington, DC.
James S. Frederick,
Deputy Assistant Secretary for Occupational Safety and Health.

[FR Doc. 2023-25071 Filed 11-13-23; 8:45 am]

BILLING CODE 4510-26-P